DEPARTMENT OF DEFENSE

Defense Logistics Agency

Cost Sharing Cooperative Agreement Applications

AGENCY: Defense Logistics Agency (DLA), DoD.

ACTION: Notice of solicitation for cost sharing cooperative agreement applications.

SUMMARY: The Defense Logistics Agency (DLA) issued a solicitation for cooperative agreement applications (SCAA) to assist state and local governments and other nonprofit eligible entities in establishing or maintaining procurement technical assistance centers (PTACs). These centers help business firms market their goods and services to the Department of Defense (DoD), other federal agencies, and state and/or local government agencies. Notice of the issuance of this SCAA was published in the March 17, 1999 Federal Register (Volume 64, Number 51, page 13176). This solicitation governs the submission of applications for calendar years 1999, 2000, 2001, and 2002 and applies to all applications from all eligible entities, including Indian Economic Enterprises and Indian Tribal Organizations. The SCAA has subsequently been amended on March 15, 2000 and February 12, 2002. The current and applicable SCAA is available at the Internet Web site listed below.

Pursuant to Section “I” paragraph “J” of the SCAA, notice is hereby given that limited additional funds are anticipated to be available in order to accept applications for additional new programs. However, applications will only be accepted from eligible entities that propose programs that will provide service to areas that are not currently receiving service from an existing program. This provision prohibiting applications from new programs proposing to service areas currently receiving service from an existing program is absolute, and the provisions of Section V, paragraph D. of the SCAA do not apply should a new applicant propose to service an area currently receiving service from an existing program.

DATES: On-line submissions of applications for new programs will be available on or about March 20, 2002. The closing date for the submission of applications is April 26, 2002 (see Section IV. paragraph C. regarding timely applications). Applications received after April 26, 2002 will not be accepted.

The SCAA is currently available for review on the Internet Web site: http://www.dla.mil/scaa/downloads.htm. Printed copies are not available for distribution.

Eligible entities may only submit an application as outlined in Section IV of the SCAA. In order to comply with the electronic portion of the submission, applicants must obtain a log in account and password from DLA. To obtain these, applicants must furnish the Grants Officer written evidence that they meet the criteria of an eligible entity as set forth in paragraph 19 of Section II of the SCAA. This information should be mailed or otherwise delivered to: HQ, Defense Logistics Agency, Small and Disadvantaged Business Utilization Office (DB, Room 1127), 8725 John J. Kingman Road, Ft. Belvoir, VA 22060-6221.

FOR FURTHER INFORMATION CONTACT: If you have any questions or need additional information please contact Ms. Diana Maykowskyj at (703) 767-1656.

Anthony J. Kuders,
Program Manager, DoD Procurement Technical Assistance Program.

[FR Doc. 02-5045 Filed 3-1-02; 8:45 am]

BILLING CODE 3620-01-M